DEPARTMENT OF THE INTERIOR

National Park Service

[NPS-AKRO-ANIA-22524; PPAKAKROR4;PPMPRLE1Y.LS0000]

Notice of an Open Public Meeting for the Aniakchak National Monument Subsistence Resource Commission

AGENCY: National Park Service, Interior.

ACTION: Meeting notice.

SUMMARY: The National Park Service (NPS) is hereby giving notice the Aniakchak National Monument Subsistence Resource Commission (SRC) will hold a public meeting to develop and continue work on NPS subsistence program recommendations, and other related regulatory proposals and resource management issues.

DATES: The Aniakchak National Monument SRC will meet from 1:30 p.m. to 4:30 p.m. or until business is completed on Monday, January 30, 2017.

ADDRESSES: Ray's Place, 2200 James Street, Port Heiden, AK, 99549.

FOR FURTHER INFORMATION CONTACT: Teleconference participants must call the NPS office in King Salmon, AK at (907) 246-2154 or (907) 246-3305, by Monday, January 23, 2017, prior to the meeting to receive teleconference passcode information. For more detailed information regarding this meeting or if you are interested in applying for SRC membership contact Mark Sturm, Designated Federal Official and Superintendent, at (907) 246-2154, or via email at mark_sturm@nps.gov or Linda Chisholm, Subsistence Coordinator, at (907) 246-2154 or via email at linda_chisholm@nps.gov or Clarence Summers, Subsistence Manager, at (907) 644-3603 or via email at clarence_summers@nps.gov.

SUPPLEMENTARY INFORMATION: The NPS is holding the meeting pursuant to the Federal Advisory Committee Act (16 U.S.C. Appendix 1-16). The NPS SRC program is authorized under Section 808 of the Alaska National Interest Lands Conservation Act, (16 U.S.C. 3118), title VIII. SRC meetings are open to the public and will have time allocated for public testimony. The public is welcome to present written or oral comments to the SRC. SRC meetings will be recorded and meeting minutes will be available upon request from the Superintendent for public inspection approximately three weeks after the meeting. Before including your address, telephone number, email address, or other personal identifying information in your comment, you should be aware that your entire comment—including your personal identifying information—may be made publicly available at any time. While you may ask us in your comment to withhold your personal identifying information from public review, we cannot guarantee that we will be able to do so.

Proposed Meeting Agenda: The agenda may change to accommodate SRC business. The proposed meeting agenda includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Reports

a. Ranger Update

b. Resource Manager's Report

c. Subsistence Manager's Report

14. Public and Other Agency Comments

15. Work Session

16. Set Tentative Date and Location for Next SRC Meeting

17. Adjourn Meeting

If this meeting is postponed due to inclement weather, or lack of a quorum, the alternate meeting dates are Tuesday, January 31, 2017, or Wednesday, February 1, 2017, or Thursday, February 2, 2017, from 1:30 p.m. to 4:30 p.m. The alternate meeting location is Ray's Place in Port Heiden, AK. SRC meeting locations and dates may change based on inclement weather or exceptional circumstances. If the meeting dates and locations are changed, the Superintendent will issue a press release and use local newspapers and radio stations to announce the rescheduled meeting.

Alma Ripps
Chief, Office of Policy.

[FR Doc. 2016-30792 Filed 12-21-16; 8:45 am]

BILLING CODE 4312-52-P